DEPARTMENT OF THE INTERIOR

Fish and Wildlife Service

[FWS-R4-ES-2009-N0037; 40120-1112-0000-F5]

Receipt of Applications for Endangered Species Permits

AGENCY: Fish and Wildlife Service, Interior.

ACTION: Notice.

SUMMARY: The public is invited to comment on the following applications to conduct certain activities with threatened and endangered species.

DATES: We must receive written data or comments on the applications at the address given below, by April 8, 2009.

ADDRESSES: Documents and other information submitted with the applications are available for review, subject to the requirements of the Privacy Act and Freedom of Information Act, by any party who submits a written request for a copy of such documents to the following office within 30 days of the date of publication of this notice: Fish and Wildlife Service, 1875 Century Boulevard, Suite 200, Atlanta, Georgia 30345 (Attn: David Dell, HCP Coordinator).

FOR FURTHER INFORMATION CONTACT: David Dell, telephone 404/679-7313; facsimile 404/679-7081.

SUPPLEMENTARY INFORMATION: The public is invited to comment on the following applications for permits to conduct certain activities with endangered and threatened species pursuant to section 10(a)(1)(A) of the Endangered Species Act of 1973, as amended (16 U.S.C. 1531 et seq.). This notice is provided under section 10(c) of the Act. If you wish to comment, you may submit comments by any one of the following methods. You may mail comments to the Fish and Wildlife Service's Regional Office (see ADDRESSES section) or via electronic mail (e-mail) to david_dell@fws.gov. Please include your name and return address in your e-mail message. If you do not receive a confirmation from the Fish and Wildlife Service that we have received your e-mail message, contact us directly at the telephone number listed above (see FOR FURTHER INFORMATION CONTACT section). Finally, you may hand deliver comments to the Fish and Wildlife Service office listed above (see ADDRESSES section).

Before including your address, telephone number, e-mail address, or other personal identifying information in your comments, you should be aware that your entire comment—including your personal identifying information—may be made publicly available at any time. While you can ask us in your comments to withhold your personal identifying information from public review, we cannot guarantee that we will be able to do so. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

Applicant: David Nelson, University of South Alabama, Mobile, Alabama, TE091704.

The applicant requests renewal of existing authorization to survey, capture, and retain in captivity the Alabama red-bellied turtle (Pseudemys alabamensis) throughout Alabama.

Applicant: Moody Air Force Base, Georgia, TE206768.

The applicant requests authorization to harass wood storks (Mycteria americana) for operational safety purposes at Moody Air Force Base.

Applicant: Savannah River Ecology Laboratory, Aiken, South Carolina, TE801914.

The applicant requests renewal of existing authorization to capture, tag, and monitor wood storks for research and management purposes throughout Florida, Georgia, and South Carolina.

Applicant: Eco-Tech Consultants, Frankfort, Kentucky, TE810274.

The applicant requests amendment of existing authorization to add authority to capture, identify, and release Virginia big-eared bats (Plecotus townsendii virginianus), and Ozark big-eared bats (Plecotus townsendii ingenss) throughout the species ranges in the southeast and midwestern United States.

Applicant: Marine Science Center, Ponce Inlet, Florida, TE050044.

The applicant requests renewal of existing authorization to hold for veterinary treatment, to retain unreleasable specimens, or to euthanize specimens of Kemp's ridley (Lepidochelys kempii), hawksbill (Eretmochelys imbricata), leatherback (Dermochelys coriacea), green (Chelonia mydas), loggerhead (Caretta caretta), and olive ridley (Lepidochelys olivacea) sea turtles. Treatment facilities are at Clearwater Marine Aquarium, but specimens may be accepted from authorized sources throughout Florida and other southeastern states.

Applicant: Georgia Sea Turtle Center, Jekyll Island, Georgia, TE206782.

The applicant requests authorization to hold for veterinary treatment, to retain unreleasable specimens, or to euthanize specimens of Kemp's ridley, hawksbill, leatherback, green, loggerhead, and olive ridley sea turtles. Treatment facilities are at Georgia Sea Turtle Center, but specimens may be accepted from authorized sources throughout Georgia and other southeastern states.

Applicant: Share the Beach, Gulf Shores, Alabama, TE100012.

The applicant requests renewal of existing authorization to survey, harass, capture, and translocate Kemp's ridley, green, and loggerhead sea turtles for recovery-related management purposes throughout coastal Alabama.

Applicant: Arnold Air Force Base, Tennessee, TE034379.

The applicant requests renewal of existing authorization to capture, identify, and release Indiana bats (Myotis sodalis), and gray bats (Myotis grisescen) for presence/absence surveys throughout Tennessee.

Applicant: Jason Jennings, Shelby, Tennessee, TE206776.

The applicant requests authorization to capture, identify, and release Indiana bats, and gray bats for presence/absence surveys throughout Tennessee.

Applicant: Ralph Costa, Mountain Rest, South Carolina, TE206777.

The applicant requests authorization to harass, capture, band, translocate, and conduct other management activities with the red-cockaded woodpecker (Picoides borealis) throughout the species range in Virginia, North Carolina, South Carolina, Georgia, Florida, Alabama, Mississippi, Louisiana, Texas, Arkansas, and Oklahoma.

Applicant: Florida Army National Guard, Starke, Florida, TE102418.

The applicant requests renewal of existing authorization to harass, capture, band, translocate, and conduct other management activities with the red-cockaded woodpecker on Camp Blanding, Florida.

Applicant: Sandhills Ecological Institute, Southern Pines, North Carolina, TE087191.

The applicant requests renewal of existing authorization to harass, capture, band, translocate, and conduct other management activities with the red-cockaded woodpecker in the sandhills region, Moore, Hoke, Cumberland, Richmond, and Scotland counties, North Carolina.

Applicant: Keith Walker, Montgomery, Alabama, TE069280.

The applicant requests renewal of existing authorization to collect little amphianthus (Amphianthus pusillus), Price's potato-bean (Apios priceana), American hart's-tongue fern (Asplenium scolopendriun var. americanum), Morefield's leather flower (Clematis morefieldii), Alabama leather flower (Clematis socialis), leafy prairie-clover (Dalea foliosa), Eggert's sunflower (Helianthus eggertii), lyrate bladderpod (Lesquerella lyrata), Mohr's barbara button (Marshallia mohrii), harperella (Ptilimnium nodosum), Kral's water-plantain (Sagittaria secundifolia), green pitcher-plant (Sarracenia oreophila), Alabama cane-break pitcher-plant (Sarracenia rubra alabamensis), American chaffseed (Schwalbea americana), gentian pinkroot (Spigelia gentianoides), Alabama streak-sorus fern (Thelypteris pilosa var. alabamensis), relict trillium (Trillium reliquum), and Tennessee yellow-eyed grass (Xyris tenneseensis), for survey purposes throughout Alabama, and requests amendment to expand authorized area of surveys throughout Georgia, Florida, Mississippi, and Tennessee.

Applicant: William Bailey, Searcy, Arkansas, TE206784.

The applicant requests authorization to capture, tag, translocate, and release the American burying beetle (Nicrophorus americanus) for population monitoring and management throughout Arkansas.

Applicant: Sean Beckmann, University of Miami, Florida, TE206774.

The applicant requests authorization to capture, tag, collect tissue samples, and release, Key Largo cotton mouse (Peromyscus gossypinus allipaticola) while conducting research activities throughout Key Largo, Florida.

Applicant: Wendell Neal, Brandon, Mississippi, TE797420.

The applicant requests renewal of existing authorization to capture, tag, and release, Perdido Key (Peromyscus polionotus trissyllepsis), Choctawhatchee (P.p. polionotus), Alabama (P.p. ammobates), Anastasia Island (P.p. phasma), and southeastern (P.p. niveiventris) beach mice while conducting presence/absence surveys throughout Alabama and Florida.

Applicant: Thomas Gunter, Tallahassee, Florida, TE206744.

The applicant requests authorization to capture, tag, and release, Perdido Key, Choctawhatchee, Alabama, Anastasia Island, southeastern, and St. Andrews (P.p. peninsularis) beach mice, Key Largo cotton mouse, and Mississippi gopher frog (Rana capito sevosa) while conducting presence/absence surveys throughout Georgia, Alabama, Florida, Mississippi, and Louisiana.

Applicant: James Moyers, Panama City Beach, Florida, TE087199.

The applicant requests renewal of existing authorization to capture, tag, and release, Perdido Key, Choctawhatchee, and St. Andrews beach mice while conducting presence/absence surveys throughout Florida.

Applicant: Joseph Perchmann, Western Carolina University, Cullowhee, North Carolina, TE056510.

The applicant requests authorization to capture, tag, and release adults, and collect and retain egg masses for propagation research, the Mississippi gopher frog while conducting recovery-related research throughout Mississippi.

Applicant: Monroe County Sheriff's Office, Key West, Florida, TE206785.

The applicant requests authorization to receive and maintain in captivity unreleasable key deer (Odocoileus virginianus clavium) for educational purposes in Key West, Florida.

Applicant: Thomas Dickinson, Hillsborough, North Carolina, TE102324.

The applicant requests renewal of existing authorization to capture, identify, release, and salvage remains of James spinymussel (Pleurobema collina), Tar spinymussel (Elliptio steinstansana), dwarf-wedge mussel (Alasmidonta heterodon), Carolina heelsplitter (Lasmigona decorata), Appalachian elktoe (Alasmidonta raveneliana), littlewing pearlymussel (Pegias fabula), oyster mussel (Epioblasma capsaeformis), and cumberland bean (Villosa trabalis) for presence/absence surveys throughout the species ranges in Georgia, North Carolina, and South Carolina.

Applicant: Michael Gangloff, Appalachian State University, Boone, North Carolina, TE079863.

The applicant requests renewal of existing authorization to capture, identify, release, and salvage remains of 55 species of listed freshwater snails and mussels, and to amend the authorization to add 20 species of listed freshwater snails and mussels for presence/absence surveys throughout the species ranges in Alabama, Florida, Georgia, Kentucky, Mississippi, North Carolina, South Carolina, Tennessee, and Virginia.

Applicant: Mississippi Department of Environmental Quality, Pearl, Mississippi, TE065948.

The applicant requests renewal of existing authorization to capture, identify, and release Cumberland combshell (Epioblasma brevidens), southern combshell (Epioblasma penita), orange-nacre mucket (Lampsilus perovalis), black clubshell (Pleuroblema curtum), southern clubshell (Pleuroblema decisum), flat pigtoe (Pleuroblema marshalli), ovate clubshell (Pleuroblema perovatum), heavy pigtoe (Pleuroblema taitianum), inflated heelsplitter (Potamlum extensa), stirrupshell (Quadrula stapes), bayou darter (Etheostoma rubbrum), and Gulf sturgeon (Acipenser oxyrinchus desotoi) for presence/absence surveys throughout Mississippi.

Applicant: Alan Christian, Arkansas State University, State University, Arkansas, TE206740.

The applicant requests authorization to capture, identify, release for presence/absence surveys, to collect tissue samples, and to retain in captivity for propagation studies Ouachita rock pocketbook (Arkansia wheeleri), Curtis' pearlymussel (Epioblasma florentina curtisi), turgid blossom (Epioblasma turgidula), pink mucket (Lampsilis abrupta), Arkansas fatmucket (Lampsilis powellii), speckled pocketbook (Lampsilis streckeri), scaleshell (Leptodea leptodon), fat pocketbook (Potamilus capax), and winged mapleleaf (Quadrula fragosa). Specimens to be captured from throughout Arkansas and retained at Arkansas State University.

Applicant: Metro Water Services, Nashville, Tennessee, TE206741.

The applicant requests authorization to capture, identify, and release the Nashville crayfish (Orconectes shoupi) while conducting presence/absence surveys in Mill Creek Watershed, Davidson and Williamson Counties, Tennessee.

Dated: February 9, 2009.
Cynthia K. Dohner,
Acting Regional Director.

[FR Doc. E9-4826 Filed 3-6-09; 8:45 am]

BILLING CODE 4310-55-P